DEPARTMENT OF HEALTH AND HUMAN SERVICES

National Institutes of Health

Center for Scientific Review; Notice of Closed Meeting.

Notice is hereby given of a change in the meeting of the Enabling Bioanalytical and Biophysical Technologies Study Section, January 31, 2007, 8:30 a.m. to February 1, 2007, 5 p.m., Courtyard Marriott, 299 Second Street, San Francisco, CA 94105 which was published in the Federal Register on December 5, 2006, 71 FR 70522-70523.

The meetings will be held February 1, 2007, to February 2, 2007. The meeting time and location remain the same. The meeting is closed to the public.

Dated: January 8, 2007.
Anna Snouffer,
Acting Director, Office of Federal Advisory Committee Policy.

[FR Doc. 07-103 Filed 1-11-07; 8:45 am]

BILLING CODE 4140-01-M